DEPARTMENT OF DEFENSE

Office of the Secretary

[Docket ID: DOD-2017-OS-0037]

Notice of Availability of an Environmental Assessment Addressing Divestment of Military Family Housing at Defense Distribution Center, Susquehanna

AGENCY: Defense Logistics Agency (DLA), Department of Defense.

ACTION: Notice of availability (NOA).

SUMMARY: DLA announces the availability of an Environmental Assessment (EA) documenting the potential environmental effects associated with the Proposed Action to divest all military family housing operations at Defense Distribution Center, Susquehanna. The EA has been prepared as required under the National Environmental Policy Act (NEPA) (1969). In addition, the EA complies with DLA Regulation 1000.22. DLA has determined that the Proposed Action would not have a significant impact on the human environment within the context of NEPA. Therefore, the preparation of an environmental impact statement is not required.

DATES: The public comment period will end on September 8, 2017.

ADDRESSES: You may submit comments, identified by DOD-2017-OS-0037, to one of the following:

• Federal eRulemaking Portal: http://www.regulations.gov. Follow the instructions for submitting comments.

• Mail: Department of Defense, Office of the Deputy Chief Management Officer, Directorate for Oversight and Compliance, Regulatory and Advisory Committee Division, 4800 Mark Center Drive, Mailbox #24, Suite 08D09B, Alexandria, VA 22350-1700.

FOR FURTHER INFORMATION CONTACT: Ira Silverberg at 703-767-0705 during normal business hours Monday through Friday, from 8:00 a.m. to 4:30 p.m. (EDT) or by email: ira.silverberg@dla.mil.

SUPPLEMENTARY INFORMATION: Comments received by the end of the 30-day period will be considered when preparing the final version of the document. The Draft EA is available electronically at the Federal eRulemaking Portal at http://www.regulations.gov, and in hardcopy at the New Cumberland Library, 1 Benjamin Plaza, New Cumberland, PA 17070; the Red Land Community Library, 48 Robin Hood Drive, Etters, PA 17319; the Fairview Township Municipal Building, 599 Lewisberry Road, New Cumberland, PA 17070; and the installation housing office.

Dated: August 4, 2017.
Aaron Siegel,
Alternate OSD Federal Register Liaison Officer, Department of Defense.

[FR Doc. 2017-16798 Filed 8-8-17; 8:45 am]

BILLING CODE 5001-06-P